DEPARTMENT OF JUSTICE

Notice of Lodging of Proposed Consent Decree Under the Clean Water Act

On February 12, 2014, the Department of Justice lodged a proposed Consent Decree in with the United States District Court for the Northern District of Indiana in the lawsuit entitled United States and State of Indiana v. City of Mishawaka, Indiana, Civil Action No. 3:14CV281.

In this case, the United States and the State of Indiana (Indiana) seek civil penalties and injunctive relief for violations of the Clean Water Act, 33 U.S.C. 1251 et seq., Title 13 of the Indiana Code, Title 327 of the Indiana Administrative Code, and certain terms and conditions of National Pollution Discharge Elimination System permits that Indiana issued to the City of Mishawaka (Mishawaka) for the relevant time periods, related to alleged discharges of untreated sewage from Mishawaka's combined sewer collection system, i.e. “combined sewer overflows,” during wet weather events, and some dry weather time periods, into “waters of the United States” and “waters of the state.”

The proposed Consent Decree would require Mishawaka to reduce its combined sewer overflows by comprehensively upgrading and expanding its sewage collection, storage, conveyance, and treatment system, at a cost of approximately $132.1 million in 2007 dollars. Mishawaka must complete these improvements by December 31, 2031 or, if Mishawaka demonstrates financial hardship, by December 31, 2036. Additionally, the proposed Decree requires Mishawaka to pay a total civil penalty of $28,000 split equally between the United States and the State of Indiana.

The publication of this notice opens a period for public comment on the proposed Consent Decree. Comments should be addressed to the Assistant Attorney General, Environment and Natural Resources Division, and should refer to United States and State of Indiana v. City of Mishawaka, Indiana, D.J. Ref. 90-5-1-1-08205. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $16.25 (25 cents per page reproduction cost) payable to the United States Treasury.

Maureen Katz,
Assistant Section Chief, Environmental Enforcement Section, Environment and Natural Resources Division.

[FR Doc. 2014-03714 Filed 2-20-14; 8:45 am]

BILLING CODE 4410-15-P